DEPARTMENT OF THE INTERIOR

Fish and Wildlife Service

[FWS-R4-ES-2015-N006; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by February 20, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: Karen Marlowe, 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 48576B-0

Applicant: Carson Wood, Hampstead, North Carolina

The applicant requests authorization to take (monitor nests, capture, band, radio-tag, release, install artificial cavities, install restrictor plates, and salvage dead birds) endangered red-cockaded woodpeckers (Picoides borealis) for the purpose of consultations with private and public land owners in North Carolina, South Carolina, Georgia, Florida, Alabama, Mississippi, Louisiana, and Arkansas.

Permit Application Number: TE 48582B-0

Applicant: Kim Romano, Ecological Solutions, Woodstock, Georgia

The applicant requests authorization to take (enter hibernacula or maternity roost caves, salvage dead bats, capture with mist nets or harp traps, handle, identify, collect hair samples, band, radio tag, light-tag, and wing-punch) Indiana bats (Myotis sodalis), gray bats (Myotis grisescens), and northern long-eared bats (Myotis septentrionalis) while conducting presence/absence surveys and studies to document habitat use throughout the species' respective ranges.

Permit Application Number: TE 059008-8

Applicant: Christian Crow, CCR Environmental, Atlanta, Georgia

The applicant requests renewal of existing authorization to capture, identify, and release 140 species of mussel, fish, snail, crayfish, reptiles, and amphibians; and to harass 6 bird species for presence/absence surveys throughout the species' ranges in Georgia, Tennessee, Alabama, Arkansas, Mississippi, Kentucky, Louisiana, Florida, North Carolina, and South Carolina

Permit Application Number: TE 02344A-1

Applicant: Donald Fortenbery, Mainstream Commercial Divers, Inc., Murray, Kentucky

The applicant requests authorization to take (collect, handle, and release) 16 mussel species while conducting presence/absence surveys in Alabama, Arkansas, Florida, Georgia, Illinois, Indiana, Iowa, Kentucky, Michigan, Minnesota, Mississippi, Missouri, Ohio, Pennsylvania, Tennessee, West Virginia, and Wisconsin.

Permit Application Number: TE 237549-1

Applicant: Gina Hancock, the Nature Conservancy TN, Nashville, Tennessee

The applicant requests renewed authorization to take (enter hibernacula or maternity roost caves, salvage dead bats, capture with mist nets or harp traps, handle, identify, collect hair samples, band, radio-tag, light-tag, and wing-punch) Indiana bats (Myotis sodalis) and gray bats (Myotis grisescens), and an amendment to include authorization to take (same activities as above) northern long-eared bat (Myotis septentrionalis) for purposes of conducting presence/absence surveys, studies to document habitat use, and population monitoring in Alabama, Georgia, Kentucky, Tennessee, Mississippi, North Carolina, and Virginia.

Permit Application Number: TE 237548-1

Applicant: Tom Counts, Tuscumbia, Alabama

The applicant requests renewal and amendment of his current permit to add authorization to take (enter hibernacula, salvage dead bats, capture with mist nets or harp traps, handle, identify, collect hair samples, band, radio-tag, and wing-punch) northern long-eared bats (Myotis septentrionalis) and continue such activities with Indiana bats (Myotis sodalis) and gray bats (Myotis grisescens) for purposes of conducting presence/absence surveys, studies to document habitat use, and population monitoring in Alabama.

Permit Application Number: TE 48833A-1

Applicant: Brian Carver, Tennessee Technical University, Cookeville, Tennessee

The applicant requests authorization to take (capture, handle, radio-tag, and release) Indiana bats (Myotis sodalis) and gray bats (Myotis grisescens) for the purpose of conducting presence/absence surveys, studies to document habitat use, and population monitoring in Alabama, Arkansas, Georgia, Illinois, Indiana, Kentucky, Missouri, North Carolina, Ohio, Pennsylvania, Tennessee, Virginia, and West Virginia.

Permit Application Number: TE 807672-16

Applicant: Joseph Carter, Dr. J.H. Carter III & Associates Inc., Southern Pines, North Carolina

The applicant requests renewed authorization to take (harass) red-cockaded woodpeckers (Picoides borealis) for the purposes of constructing and monitoring artificial nest cavities and restrictors; for capturing, banding, and translocation of birds; and for monitoring populations and nest cavities in Alabama, Florida, Georgia, Louisiana, Mississippi, North Carolina, South Carolina, Texas, Virginia.

Permit Application Number: TE 117405-3

Applicant: Brenda Brickhouse, Tennessee Valley Authority, Knoxville, Tennessee

The applicant requests an amendment to their current permit to add authorization to take the following endangered species of wildlife and remove and reduce to possession the following endangered species of plants for purposes of conducting presence/absence surveys, studies to document habitat use, and population monitoring in Alabama, Georgia, Kentucky, Tennessee, Mississippi, North Carolina, and Virginia: Northern long-eared bat (Myotis septentrionalis), Cumberland darter (Etheostoma susanae), rush darter (Etheostoma phytophilum), marbled darter (Etheostoma marmorpinnum), tuxedo darter (Etheostoma lemniscatum), Citico darter (Etheostoma sitikuense), chucky madtom (Noturus crypticus), Laurel dace (Phoxinus saylori), Georgia pigtoe (Pleurobema hanleyianum), slabside pearlshell (Pleuronaia dolabelloides), fluted kidneyshell (Ptychobranchus subtentum), rayed bean (Villosa fabalis), sheepnose (Plethobasus cyphyus), snuffbox (Epioblasma triquetra), spectaclecase (Cumberlandia monodonta), interrupted rocksnail (Leptoxis foremani), rough hornsnail (Pleurocera foremani), whorled sunflower (Helianthus verticillatus), Short's bladderpod (Physaria globosa), and gladecress (Leavenworthia crassa).

Permit Application Number: TE 48049B-0

Applicant: Kathryn Cunningham, Richmond, Kentucky

The applicant requests authorization to take (enter hibernacula or maternity roost caves, salvage dead bats, capture with mist nets or harp traps, handle, identify, band, and radio tag) Indiana bats (Myotis sodalis), gray bats (Myotis grisescens) northern long-eared bats (Myotis septentrionalis), and Virginia big-eared bats (Corynorhinus townsendii virginianus) for the purpose of conducting presence/absence surveys, throughout the species' respective ranges.

Permit Application Number: TE 142806-1

Applicant: James Cox, Tall Timbers Research Station, Tallahassee, Florida

The applicant requests renewed authorization to take (capture, band, translocate) red-cockaded woodpeckers (Picoides borealis) for the purposes of monitoring populations and nest cavities in Florida and Georgia.

Permit Application Number: TE 008077-2

Applicant: John Palis, Jonesboro, Illinois

The applicant requests renewed authorization to take (capture, mark, release, recapture, photograph) frosted flatwoods salamanders (Ambystoma cingulatum) and reticulated flatwoods salamanders (Ambystoma bishopi) while improving amphibian breeding habitat and conducting presence/absence surveys in Georgia, Florida, and South Carolina.

Permit Application Number: TE 020890-4

Applicant: Shaun Williamson, U.S. Forest Service, Jackson, Mississippi

The applicant requests renewed authorization to take (capture, handle, band, translocate, installation of artificial nest cavities and restriction plates) red-cockaded woodpeckers (Picoides borealis) for the purposes of monitoring populations and nest cavities in Mississippi.

Permit Application Number: TE 22570A-1

Applicant: Rick Schwartz, Nashville Zoo, Nashville, Tennessee

The applicant requests renewed authorization to take (capture, identify, translocate, release) the Nashville crayfish (Orconectes shoupi) while conducting presence/absence studies, population estimates and monitoring, captive propagation, age class determination, and relocation/reintroduction activities in Tennessee.

Permit Application Number: TE 34882A-1

Applicant: Mark Bailey, Andalusia, Alabama

The applicant requests renewed authorization to take (harass) the endangered red-cockaded woodpecker (Picoides borealis) during the construction and monitoring of artificial roost cavities and restrictors; take (capture, identify, release) flatwoods salamander (Ambystoma cingulatum), flattened musk turtle (Sternotherus depressus), eastern indigo snake (Drymarchon corais couperi), Mississippi gopher frog (Rana sevosa), and red hills salamander (Phaeognathus hubrichti) while conducting presence and absence surveys; and take (capture, relocate, radio-tag, release) the gopher tortoise (Gopherus polyphemus) while conducting translocation activities throughout the species' respective ranges.

Permit Application Number: TE 065948-2

Applicant: Douglas Upton, Mississippi Dept. of Environmental Quality, Jackson, Mississippi

The applicant requests renewed authorization to take (harass) Cumberland combshell (Epioblasma brevidens), southern combshell (Epioblasma penita), orange-nacre mucket (Lampsilis perovalis), black clubshell (Pleurobema curtum), southern clubshell (Pleurobema decisum), flat pigtoe (Pleurobema marshalli), ovate clubshell (Pleurobema perovatum), heavy pigtoe (Pleurobema taitianum), inflated heelsplitter (Potamilus inflatus), stirrupshell (Quadrula stapes), bayou darter (Etheostoma rubrum) and gulf sturgeon (Acipenser oxyrinchus desotoi), while conducting biological surveys to determine the condition of various water bodies throughout the State of Mississippi.

Permit Application Number: TE 53149B-0

Applicant: Hans Otto, Omaha, Nebraska

The applicant requests authorization to take (enter hibernacula or maternity roost caves, salvage dead bats, capture with mist nets or harp traps, handle, identify, collect hair and tissue samples, band, radio tag, pit-tag, light-tag, and wing-punch) Indiana bats (Myotis sodalis), northern long-eared bats (Myotis septentrionalis),Virginia big-eared bats (Corynorhinus townsendii virginianus), and Ozark big-eared bats (Corynorhinus townsendii ingens) for the purpose of conducting presence/absence surveys, studies to document habitat use, and population monitoring throughout the species' respective ranges.

Permit Application Number: TE 206872-6

Applicant: Joy O'Keefe, Indiana State University, Terre Haute, Indiana

The applicant requests an amendment to her current permit to add authorization to take (enter hibernacula, conduct exits counts at roosts, salvage dead bats, capture with mist nets or harp traps, handle, identify, collect hair and tissue samples, band, radio-tag, pit-tag, light-tag, wing-punch, and selectively euthanize for white-nose syndrome surveillance) northern long-eared bats (Myotis septentrionalis), in addition to the already authorized Indiana bats (Myotis sodalis), Virginia big-eared bats (Corynorhinus townsendii virginianus), and gray bats (Myotis grisescens) for the purposes of conducting presence/absence surveys, studies to document habitat use, and population monitoring throughout the species' respective ranges.

Permit Application Number: TE 81756A-1

Applicant: Jason Robinson, Lexington, Kentucky

The applicant requests an amendment to his current permit to expand the location of authorized activities for the Indiana bat (Myotis sodalis) to include all States throughout the species' range and to authorize take (enter hibernacula, salvage dead bats, capture with mist nets or harp traps, handle, identify, band, and radio tag) of northern long-eared bats (Myotis septentrionalis) for recovery-related research throughout the species' range.

Permit Application Number: TE 53906B-0

Applicant: James Austin, University of Florida, Gainesville, Florida

The applicant requests authorization to take (capture, mark, release, recapture, and ear clip) Perdido Key beach mouse (Peromyscus polionotus trissyllepsis), Alabama beach mouse (Peromyscus polionotus ammobates), Santa Rosa beach mouse (Peromyscus polionotus leucocephalus), Choctawhatchee beach mouse (Peromyscus polionotus allophrys), St. Andrew beach mouse (Peromyscus polionotus peninsularis), Southeastern beach mouse (Peromyscus polionotus niveiventris), and Anastasia beach mouse (Peromyscus polionotus phasma) for the purposes of estimating abundance, studying habitat selection and movement behavior, and conducting studies on genetic diversity and connectivity in Alabama and Florida.

Permit Application Number: TE 53910B-0

Applicant: Teresa Porter, Salem College, Winston-Salem, North Carolina

The applicant requests authorization to take (capture with mist nets and wing-punch) Indiana bats (Myotis sodalis), northern long-eared bats (Myotis septentrionalis), and gray bats (Myotis grisescens) in the Piedmont region of North Carolina for the purposes of conducting presence/absence surveys and analysis of anti-microbial skin proteins for white-nose syndrome surveillance.

Permit Application Number: TE 37492B-0

Applicant: Anthony Grow, Millington, Tennessee

The applicant requests authorization to take (capture with mist nets, band, and radio-tag) Indiana bats (Myotis sodalis), northern long-eared bats (Myotis septentrionalis), and gray bats (Myotis grisescens) throughout these species' ranges for the purpose of conducting presence/absence surveys.

Permit Application Number: TE 102292-10

Applicant: Jeremy Jackson, Jackson Environmental Consulting Service, Richmond, Kentucky

The applicant requests renewal and an amendment to his current permit to expand the location of authorized activities for the Indiana bat (Myotis sodalis), gray bat (Myotis grisescens), and Virginia big-eared bat (Corynorhinus townsendii virginianus) to include the states of Mississippi and Georgia, and to authorize take (enter hibernacula, salvage dead bats, capture with mist nets or harp traps, handle, identify, band, radio tag, light-tag, collect hair samples, wing-punch, and selectively euthanize for white-nose syndrome testing) of northern long-eared bats (Myotis septentrionalis) for recovery-related research throughout the species' range.

Permit Application Number: TE 009638-10

Applicant: Timothy Compton, Appalachian Technical Services, Wise, Virginia

The applicant requests an amendment to his current permit to authorize take (capture with mist nets or harp traps, handle, identify, band, and radio tag) of northern long-eared bats (Myotis septentrionalis) and to authorize take (hand-seining, netting, and electroshocking) of the duskytail darter (Etheostoma percnurum) and Cumberland darter (Etheostoma susanae) for presence/absence surveys throughout the species' ranges.

Permit Application Number: TE 697819-4

Applicant: Leopoldo Miranda, Assistant Regional Director-Ecological Services, U.S. Fish and Wildlife Service, Atlanta, Georgia

The applicant requests an amendment to his current permit to authorize all U.S. Fish and Wildlife Service (Service) biological staff, official volunteers, and designated agents of the Service in the Southeast Region (Alabama, Arkansas, Florida, Georgia, Kentucky, Louisiana, Mississippi, North Carolina, South Carolina, Tennessee, Commonwealth of Puerto Rico, and U.S. Virgin Islands) to take or remove and reduce to possession all listed, proposed, and candidate species in the Southeast Region to enhance propagation or survival or conduct scientific research aimed at the conservation of the species in accordance with the mission of the Service to promote recovery of endangered and threatened species and all other applicable laws and regulations.

Permit Application Number: TE 077175-3

Applicant: Troy Best, Auburn University, Auburn, Alabama

The applicant requests renewal and an amendment to his current permit to authorize take (enter hibernacula, salvage dead bats, capture with mist nets or harp traps, handle, identify, band, radio tag, light-tag, collect hair samples, wing-punch, and selectively euthanize for white-nose syndrome testing) of northern long-eared bats (Myotis septentrionalis) for recovery-related research in Alabama.

Dated: January 13, 2015.
Leopoldo Miranda,
Acting Deputy Regional Director, Southeast Region.

[FR Doc. 2015-00855 Filed 1-20-15; 8:45 am]

BILLING CODE 4310-55-P